SECURITIES AND EXCHANGE COMMISSION

[Release No. SIPA-177; File No. SIPC-2016-02]

Securities Investor Protection Corporation; Notice of Filing of Proposed Bylaw Amendments Relating to Assessment of SIPC Members

June 15, 2016.

Correction

In notice document 2016-14499, appearing on pages 39986 through 39990 in the issue of Monday, June 20, 2016, make the following corrections:

1. On page 39986, in the third column, in the document heading, under SECURITIES AND EXCHANGE COMMISSION, “[Release No. SIPA-177; File No. SIPC-2016-01]” should read “[Release No. SIPA-177; File No. SIPC-2016-02]”.

2. On page 39989, in the third column, in the fifth paragraph, on the third line, “SIPC-2016-01” should read “SIPC-2016-02”.

3. On page 39989, in the third column, in the seventh paragraph, on the second line, “SIPC-2016-01” should read “SIPC-2016-02”.

4. On page 39989, in the third column, in the ninth paragraph, on the second line, “SIPC-2016-01” should read “SIPC-2016-02”.

[FR Doc. C1-2016-14499 Filed 6-23-16; 8:45 am]

BILLING CODE 1505-01-D